COMMISSION ON CIVIL RIGHTS

Sunshine Act Notice; Amended

AGENCY: United States Commission on Civil Rights.

ACTION: Notice of meeting.

DATE AND TIME: Friday, February 11, 2011; 9:30 a.m. EST.

PLACE: 624 Ninth Street, NW., Room 540, Washington, DC 20425.

Briefing Agenda

This briefing is open to the public.

Topic: Disparate Impact in School Discipline Policies.

I. Introductory Remarks by Chairman.

II. Speakers' Presentations.

III. Questions by Commissioners and Staff Director.

IV. Adjourn Briefing.

Meeting Agenda

This meeting is open to the public.

I. Approval of Agenda

II. Welcome New Commissioners

III. Management and Operations:

• Review of transition, order of succession, continuity of operations.

• Review of 2011 meeting calendar.

• Staff Director's report.

IV. Program Planning: Update and discussion of projects

• Cy Pres.

• Disparate Impact in School Discipline Policies.

• Gender and the Wage Gap.

• Title IX—Sex Discrimination in Liberal Arts College Admissions.

• Eminent Domain Project.

• NBPP.

V. State Advisory Committee Issues:

• Consideration of Vermont SAC Chair.

• Re-chartering the Alabama SAC.

VI. Approval of Dec. 3, 2010 Meeting Minutes

VII. Announcements

VIII. Adjourn

CONTACT PERSON FOR FURTHER INFORMATION: Lenore Ostrowsky, Acting Chief, Public Affairs Unit, (202) 376-8591. TDD: (202) 376-8116.

Persons with a disability requiring special services, such as an interpreter for the hearing impaired, should contact Pamela Dunston at least seven days prior to the meeting at 202-376-8105. TDD: (202) 376-8116.

Dated: February 1, 2011.
Christopher Byrnes,
Delegated the Authority of the Staff Director.

[FR Doc. 2011-2475 Filed 2-1-11; 4:15 pm]

BILLING CODE 6335-01-P